FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Kerry Freight (USA) Inc., 147-45 Farmers Blvd., Suite 201, Jamaica, NY 11434. Officers: Kevin J. Park, Corporate Secretary (Qualifying Individual), Lui Kim Ming, Director.

Citic Global Logistics, Inc., 120 W. Huntington Drive, Suite 101, Arcadia, CA 91007. Officers: David Fernandes, Secretary (Qualifying Individual), John Woo, President.

World Cargo Transport Inc. dba Global Freight Transport, Inc., 17 Jessica Lane, No. Brunswick, NJ 08902. Officer: William Roach, President (Qualifying Individual).

O K Container Sales, Inc., 17870 Castleton Street, #238, City of Industry, CA 91748. Officers: Boe-Bong Chou (aka Ben Chou), Managing Director, (Qualifying Individual), Szu-Pien Kao, President.

Profes INTL Corporation dba All State International Freight Co. dba Cargo Alliance Service, 167-55 148th Avenue, Jamaica, NY 11434. Officers: Charles H. Choi, Director, (Qualifying Individual), Yeau Myung Yoon, President.

T W International Inc. dba DYNA Express, 147-35 Farmers Blvd., Suite 202, Jamaica, NY 11434. Officers: Ai-Yun (Agnes) Tang, (Qualifying Individual).

Non-Vessel Operating Common Carrier and Ocean Freight Forwarder Transportation Intermediary Applicants:

Interocean Logistics, Inc., 703 Waterford Way (NW 62nd Ave.), Suite 650, Miami, FL 33126. Officers: Carlos X. Valdano, President, (Qualifying Individual), Juan Carlos Valdano, Secretary/Treasurer/Dir.

Johnny Air Cargo, Inc., 69-04 Roosevelt Avenue, Woodside, NY 11377. Officer: Jay Naval Angeles, Vice President (Qualifying Individual).

Go-Trans (Los Angeles) Ltd., 20140 S. Western Avenue, Torrance, CA 90501. Officers: Clemencia Tizon Hilvano, Vice President (Qualifying Individual), Patrick Siu, President.

C D S Overseas, Inc., 440 South Hindry Avenue, Suite A, Inglewood, CA 90301. Officer: Joseph K. Yau, President/CEO (Qualifying Individual).

American Freight Forwarders, Inc., 10431 Felson Street, Bellflower, CA 90706. Officers: Kari Anne Stupke, Secretary (Qualifying Individual), Eric Alan Larson, President/CEO.

Advantage Logistics & Trading Services Inc., 13703 SW 100 Terrace, Miami, FL 33186. Officers: Sigfrido Eduardo Caamano, President (Qualifying Individual).

Cosmic Logistics Inc., 181 S. Franklin Avenue, Valley Stream, NY 11581. Officers: Milton Heid, President (Qualifying Individual), Ausustus Antico, Secretary/Treasurer.

Nationwide Relocation Services Inc., 1700 NW 64th Street, Suite 400, Ft. Lauderdale, FL 33309. Officers: Aldo L. Disorbo, Director (Qualifying Individual), Katherine Bach, President.

Standard Logistics, LLC, 8616 La Tijera Blvd., #403, Los Angeles, CA 90045. Officers: Walter Rozario, Manager (Qualifying Individual), Tom Allen, Manager.

Stat Logistics International, Inc., 28310 Industrial Blvd., Suite C, Hayward, CA 94545. Officers: Michael J. Ford, Asst. Vice President (Qualifying Individual), Patrick H. Crenshaw, President/CEO.

Dated: June 7, 2002.
Theodore A. Zook,
Assistant Secretary.

[FR Doc. 02-14784 Filed 6-11-02; 8:45 am]

BILLING CODE 6730-01-P